DEPARTMENT OF THE INTERIOR

Bureau of Ocean Energy Management

[MMAA104000]

Outer Continental Shelf Scientific Committee; Announcement of Plenary Session

AGENCY: Bureau of Ocean Energy Management (BOEM), Interior.

ACTION: Notice of Meeting.

SUMMARY: The Outer Continental Shelf (OCS) Scientific Committee (Committee) will meet at the Sheraton Reston Hotel.

DATES: Tuesday, May 13, 2014, Registration opens at 8:00 a.m., Plenary Session from 9:00 a.m. to 5:15 p.m.; Wednesday, May 14, 2014, Fiscal Year 2015 Studies Presentations from 8:30 a.m. to 5:00 p.m.; and on Thursday, May 15, 2014, Plenary Session from 9:40 a.m. to 5:00 p.m.

ADDRESSES: 11810 Sunrise Valley Drive, Reston, Virginia.

FOR FURTHER INFORMATION CONTACT: A copy of the draft agenda can be located on the Committee's Web site: http://www.boem.gov/About-BOEM/Public-Engagement/Federal-Advisory-Committees/OCS-Scientific-Committee/Index.aspx, or can be requested from BOEM by emailing Ms. Phyllis Clark at Phyllis.Clark@boem.gov. Other inquiries concerning the Committee meeting should be addressed to Dr. Rodney Cluck, Executive Secretary to the Committee, Bureau of Ocean Energy Management, 381 Elden Street, Mail Stop HM-3115, Herndon, Virginia 20170-4817, or by calling (703) 787-1087 or via email at Rodney.Cluck@boem.gov.

SUPPLEMENTARY INFORMATION: The Committee will provide advice to the Secretary, through the Director, on the scientific quality and value for decisionmaking of the OCS Environmental Studies Program and may recommend changes in scope, direction, and emphasis.

On Tuesday, May 13, the Committee will meet in plenary session. Dr. William Brown, Designated Federal Officer of the Committee and Chief Environmental Officer, will address the Committee on issues and challenges BOEM is facing and will present recent BOEM accomplishments.

There will be an update from each region's Environmental Studies Chief on OCS activities and current issues.

On Wednesday, May 14, the Committee will be presented the specific research plans for proposed studies.

On Thursday, May 15, from 9:40 a.m. 5:00 p.m., the Committee will report its comments regarding the FY 2015 proposed studies to BOEM. Public comment will be held at 3:20 p.m. following Committee business.

The meetings are open to the public. Approximately 50 visitors can be accommodated on a first-come-first-served basis at the plenary session.

Authority: Federal Advisory Committee Act, Public Law 92-463, 5 U.S.C., Appendix I, and the Office of Management and Budget's Circular A-63, Revised.

Dated: April 14, 2014.
William Y. Brown,
Chief Environmental Officer, Office of Environmental Programs.

[FR Doc. 2014-09278 Filed 4-24-14; 8:45 am]

BILLING CODE 4310-MR-P